FEDERAL COMMUNICATIONS COMMISSION

Public Information Collections Approved by Office of Management and Budget

April 30, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0756.

Expiration Date: 01/31/2005.

Title: Procedural Requirements and Policies for Commission Processing BOC Applications for the Provision of In-Region, InterLATA Services Under Section 271 of the Telecommunications Act of 1996.

Form No.: N/A.

Respondents: Business or other for-profit; State, Local or Tribal Government, Federal Government.

Estimated Annual Burden: 75 respondents; 250.9 hours per response (avg.).; 18,820 total annual burden hours.

Estimated Annual Reporting and Recordkeeping Cost Burden: $0.

Frequency of Response: On occasion.

Description: In a Public Notice released March 23, 2001 (DA 01-734) the Commission set forth the procedural requirements and policies relating to FCC processing of Bell Operating Company (BOC) applications to provide in-region, interLATA services pursuant to 47 USC 271. BOCs must file applications, which provide information on which the applicant intends to rely in order to satisfy the requirement of Section 271. State regulatory commission and Department of Justice can file written consultations relating to the applications. Interested third parties may file comments and reply comments regarding the applications. See Public Notice for details of requirements. The Public Notice may be obtained from the Commission's website at www.fcc.gov or by calling 202-418-0500. All of the requirements are used to ensure that BOCs have complied with their obligations under the Communications Act of 1934, as amended, before being authorized to provide in-region, interLATA services pursuant to Section 271. Obligation to respond: Mandatory.

OMB Control No.: 3060-0814

Expiration Date: 03/31/2005

Title: Section 54.301, Local Switching Support and Local Switching Support Data Collection Form and Instructions.

Form No.: N/A.

Respondents: Business or other for-profit.

Estimated Annual Burden: 195 respondents; 19.42 hours per response (avg.).; 3787 total annual burden hours.

Estimated Annual Reporting and Recordkeeping Cost Burden: $0.

Frequency of Response: On occasion; annually.

Description: Pursuant to Section 54.301, each incumbent local exchange carrier that is not a member of the NECA common line tariff, that has been designated an eligible telecommunications carrier, and that serves a study area with 50,000 or fewer access lines shall, for each study area, provide the Administrator with the projected total unseparated dollar amount assigned to each account in Section 54.301(b). (No. of respondents: 157; hours per response; 24 hours; total annual burden: 3768 hours). Average schedule companies are required to file information pursuant to Section 54.301(f). (No. of respondents: 38; hours per response: .5 hours; total annual burden: 19 hours). Both respondents must provide true-up data. Carriers must file this information within 12 months after the initial report. The universal service administrator, USAC, has developed a form to collect the information specified in the Commission's rules. Copies of the forms and instructions may be obtained from the Administrator by calling 202-776-0200. Copies of the forms and instructions may also be downloaded from the Administrator's web page (www.universalservice.org). The data is necessary to calculate the average unseparated local switching revenue requirement. This revenue requirement is necessary to calculate the amount of local switching support that carriers will receive. Obligation to respond: Mandatory. Note that this is a re-issuance of the notice of OMB approval that appeared in the Federal Register on April 12, 2002. The notice failed to mention the local switching support forms and instructions.

OMB Control No.: 3060-0856

Expiration Date: 04/30/2005

Title: Universal Service—Schools and Libraries Universal Service Program Reimbursement Forms

Form No.: FCC Forms 472, 473 and 474.

Respondents: Not-for-profit institutions; business or other for-profit.

Estimated Annual Burden: 61,800 respondents; 1.42 hours per response (avg.); 88,050 total annual burden hours.

Estimated Annual Reporting and Recordkeeping Cost Burden: $0.

Frequency of Response: On occasion, annually; third party disclosure.

Description: The Commission adopted rules providing support for all telecommunications services, Internet access, and internal connections for all eligible schools and libraries pursuant to the Telecommunications Act of 1996. The Universal Service Administrative Company (USAC) administers the telecommunications universal service programs. The following forms are necessary to enable USAC's Schools and Libraries Division (SLD), to pay universal service support to service providers who provide discounted service to eligible schools, libraries, and consortia of those entities. FCC Form 472, Billed Entity Applicant Reimbursement Form—The purpose of FCC Form 472 is to establish the process and procedure for an eligible entity to seek reimbursement from the service provider for the discounts on services paid in full since the actual service start date of the discounts as reported in the applicant's Form 486 Receipt of Services Confirmation Form, Column (E) of Block 2. Once the fund administrator processes the FCC Form 472, a notification will be sent to the service provider and applicant advising them of the approved amount of discounts. After receiving an invoice from the service provider, together with an FCC Form 474, the fund administrator will deliver the amount of the approved reimbursement to the service provider, and the service provider shall then remit that amount to the applicant. (No. of respondents: 50,000; hours per response: 15. hours; total annual burden: 75,000 hours). FCC Form 473—Service Provider Annual Certification Form—The purpose of FCC Form 473 is to establish the process and procedure for a service provider to confirm the accuracy of their Invoice Forms. This form is part of the procedure established to enable service providers to seek reimbursement for the costs of discounts they provided to eligible entities on eligible services as defined under the FCC's rules governing the schools and libraries universal service support mechanism pursuant to the Telecommunications Act of 1996. (No. of respondents: 9300; hours per response: 1 hour; total annual burden: 9300 hours). FCC Form 474, Service Provider Invoice Form—The purpose of FCC Form 474, is to establish the processing and procedure for a service provider to seek reimbursement for the costs of discounts it provided to eligible entities on eligible services as defined under the FCC's rules governing the schools and libraries universal service support mechanism pursuant to the Telecommunications Act of 1996. The Service Provider Invoice Form is also used by the fund administrator, the SLD, to assure that the dollars paid out by the fund administrator on a funding request number (FRN) do not exceed that FRN. An FRN is a service or group of services for which funding was requested by an applicant and for which the fund administrator issued a Funding Commitment Decision Letter to both the applicant and service provider. The letter identifies the amount of discounts that have been approved for each FRN and the SPIN for the service provider that is authorized to provide the discounts. FCC Form 474 verifies that each service provider has provided discounted services within the current funding year for which it submits an invoice to the SLD and assures that invoices submitted from service providers for the costs of discounted eligible services do not exceed the funding year cap for each FRN. (No. of respondents: 2500; hours per response: 1.5 hours; total annual burden: 3750 hours). All of the forms are necessary to implement the congressional mandate for universal service. FCC Forms 473 and 474 verify that each service provider has provided discounted services within the current funding year for which it submits an invoice to the SLD and assure that invoices submitted from service providers for the costs of discounted eligible services do not exceed the funding year cap for each FRN. FCC Form 472 allows eligible entities to seek reimbursement from the service providers. Call SLD at 1-888-203-8100 for questions concerning or for copies of FCC Forms 472, 473, or 474. Copies of the forms are also available via the internet at www.universalservice.org. Obligation to respond: Required to obtain or retain benefits.

Public reporting burdens for the collections of information are as noted above. Send comments regarding the burden estimates or any other aspect of the collections of information, including suggestions for reducing the burden to Performance Evaluation and Records Management, Washington, DC 20554.

Federal Communications Commission.
Marlene H. Dortch,
Secretary.

[FR Doc. 02-11390 Filed 5-7-02; 8:45 am]

BILLING CODE 6712-01-P